Title 3—

The President

Executive Order 13845 of July 19, 2018

Establishing the President's National Council for the American Worker

By the authority vested in me as President by the Constitution and the laws of the United States of America, and in order to provide a coordinated process for developing a national strategy to ensure that America's students and workers have access to affordable, relevant, and innovative education and job training that will equip them to compete and win in the global economy, and for monitoring the implementation of that strategy, it is hereby ordered as follows:

Section 1. Purpose. Our Nation is facing a skills crisis. There are currently more than 6.7 million unfilled jobs in the United States, and American workers, who are our country's most valuable resource, need the skills training to fill them. At the same time, the economy is changing at a rapid pace because of the technology, automation, and artificial intelligence that is shaping many industries, from manufacturing to healthcare to retail. For too long, our country's education and job training programs have prepared Americans for the economy of the past. The rapidly changing digital economy requires the United States to view education and training as encompassing more than a single period of time in a traditional classroom. We need to prepare Americans for the 21st century economy and the emerging industries of the future. We must foster an environment of lifelong learning and skills-based training, and cultivate a demand-driven approach to workforce development. My Administration will champion effective, results-driven education and training so that American students and workers can obtain the skills they need to succeed in the jobs of today and of the future.

Sec. 2. Policy. It shall be the policy of the executive branch to work with private employers, educational institutions, labor unions, other non-profit organizations, and State, territorial, tribal, and local governments to update and reshape our education and job training landscape so that it better meets the needs of American students, workers, and businesses.

Sec. 3. Establishment and Composition of the President's National Council for the American Worker. (a) There is hereby established the President's National Council for the American Worker (Council), co-chaired by the Secretary of Commerce, the Secretary of Labor, the Assistant to the President for Domestic Policy, and the Advisor to the President overseeing the Office of Economic Initiatives (Co-Chairs).

(b) In addition to the Co-Chairs, the Council shall include the following officials, or their designees:

(i) the Secretary of the Treasury;

(ii) the Secretary of Education;

(iii) the Secretary of Veterans Affairs;

(iv) the Director of the Office of Management and Budget;

(v) the Administrator of the Small Business Administration;

(vi) the Assistant to the President and Deputy Chief of Staff for Policy Coordination;

(vii) the Director of the National Economic Council;

(viii) the Chairman of the Council of Economic Advisers;

(ix) the Director of the National Science Foundation; and

(x) the Director of the Office of Science and Technology Policy.

Sec. 4. Additional Invitees. As appropriate and consistent with applicable law, the Co-Chairs may, from time to time, invite the heads of other executive departments and agencies (agencies), or other senior officials in the White House Office, to attend meetings of the Council.

Sec. 5. Council Meetings. The Co-Chairs shall convene meetings of the Council at least once per quarter.

Sec. 6. Functions of the Council. (a) The Council shall develop recommendations for the President on policy and strategy related to the American workforce, and perform such other duties as the President may from time to time prescribe.

(b) The Council shall develop recommendations for:

(i) a national strategy for empowering American workers, which shall include recommendations on how the Federal Government can work with private employers, educational institutions, labor unions, other non-profit organizations, and State, territorial, tribal, and local governments to create and promote workforce development strategies that provide evidence-based, affordable education and skills-based training for youth and adults to prepare them for the jobs of today and of the future;

(ii) fostering close coordination, cooperation, and information exchange among the Federal Government, private employers, educational institutions, labor unions, other non-profit organizations, and State, territorial, tribal, and local governments as related to issues concerning the education and training of Americans; and

(iii) working with agencies to foster consistency in implementing policies and actions developed under this order.

Sec. 7. Initial Tasks of Council. Within 180 days of the date of this order, the Council shall:

(a) develop a national campaign to raise awareness of matters considered by the Council, such as the urgency of the skills crisis; the importance of science, technology, engineering, and mathematics education; the creation of new industries and job opportunities spurred by emerging technologies, such as artificial intelligence; the nature of many careers in the trades and manufacturing; and the need for companies to invest in the training and re-training of their workers and more clearly define the skills and competencies that jobs require;

(b) develop a plan for recognizing companies that demonstrate excellence in workplace education, training, and re-training policies and investments, in order to galvanize industries to identify and adopt best practices, innovate their workplace policies, and invest in their workforces;

(c) examine how the Congress and the executive branch can work with private employers, educational institutions, labor unions, other non-profit organizations, and State, territorial, tribal, and local governments to support the implementation of recommendations from the Task Force on Apprenticeship Expansion established in Executive Order 13801 of June 15, 2017 (Expanding Apprenticeships in America), including recommendations related to:

(i) developing and increasing the use of industry-recognized, portable credentials by experienced workers seeking further education, displaced workers seeking skills to secure new jobs, students enrolled in postsecondary education, and younger Americans who are exploring career and education options before entering the workforce;

(ii) increasing apprenticeship, earn-and-learn, and work-based learning opportunities;

(iii) expanding the use of online learning resources; and

(iv) increasing the number of partnerships around the country between companies, local educational institutions, and other entities, including local governments, labor unions, workforce development boards, and other non-profit organizations, in an effort to understand the types of skills that are required by employers so that educational institutions can recalibrate their efforts toward the development and delivery of more effective training programs.

(d) consider the recommendations of the American Workforce Policy Advisory Board (Board) established in section 8 of this order and, as appropriate, adopt recommendations that would significantly advance the objectives of the Council. The Council shall continue to consider and, as appropriate, adopt the Board's recommendations beyond the initial 180-day period provided by this section;

(e) recommend a specific course of action for increasing transparency related to education and job-training program options, including those offered at 4-year institutions and community colleges. The Council shall also propose ways to increase access to available job data, including data on industries and geographic locations with the greatest numbers of open jobs and projected future opportunities, as well as the underlying skills required to fill open jobs, so that American students and workers can make the most informed decisions possible regarding their education, job selection, and career paths. The Council shall also propose strategies for how best to use existing data tools to support informed decision making for American students and workers;

(f) develop recommendations on how the public sector should engage with the private sector in worker re-training, including through the use of online learning resources. In developing these recommendations, the Council shall examine existing private sector efforts to re-train workers or develop them professionally, and consider how investments in worker training and re-training programs compare to investments in other human-resource related areas, such as recruitment, health benefits, and retirement benefits; and

(g) examine public and private-sector expenditures, including tax expenditures, related to providing Americans with knowledge and skills that will enable them to succeed in the workplace at various stages of life (such as during primary and secondary education, postsecondary education, continuing professional development, and re-training), consider the effectiveness of those expenditures, and make suggestions for reforms in order to serve American workers and students better.

Sec. 8. Establishment of the American Workforce Policy Advisory Board. (a) There is hereby established the American Workforce Policy Advisory Board.

(b) The Board shall be composed and function as follows:

(i) The Board shall be composed of the Secretary of Commerce and the Advisor to the President overseeing the Office of Economic Initiatives, and up to 25 members appointed by the President from among citizens outside the Federal Government, and shall include individuals chosen to serve as representatives of the various sectors of the economy, including the private sector, employers, educational institutions, and States, to offer diverse perspectives on how the Federal Government can improve education, training, and re-training for American workers;

(ii) The Board shall be co-chaired by the Secretary of Commerce and the Advisor to the President overseeing the Office of Economic Initiatives;

(iii) Members appointed to the Board shall serve for a term of 2 years. If the term of the Board established in subsection (a) of this section is extended, members shall be eligible for reappointment, and may continue to serve after the expiration of their terms until the appointment of a successor;

(iv) The Board shall advise the Council on the workforce policy of the United States. Specific activities of the Board shall include, to the extent permitted by law, recommending steps to encourage the private sector and educational institutions to combat the skills crisis by investing in and increasing demand-driven education, training, and re-training, including through apprenticeships and work-based learning opportunities;

(v) Members of the Board shall serve without any compensation for their work on the Board. Members of the Board, while engaged in the work of the Board, may be allowed travel expenses, including per diem in lieu of subsistence, to the extent permitted by law for persons serving intermittently in Government service (5 U.S.C. 5701-5707), consistent with the availability of funds;

(vi) The Board shall terminate 2 years after the date of this order, unless extended by the President; and

(vii) Insofar as the Federal Advisory Committee Act, as amended (5 U.S.C. App.), may apply to the Board, any functions of the President under that Act, except for those in section 6 and section 14 of that Act, shall be performed by the Secretary of Commerce, in accordance with the guidelines issued by the Administrator of General Services.

Sec. 9. Administrative Provisions. (a) The Department of Commerce shall provide the Council and the Board with funding and administrative support as may be necessary for the performance of their functions.

(b) The Secretary of Commerce, in consultation with the Co-Chairs of the Council, shall designate an official to serve as Executive Director, to coordinate the day-to-day functions of the Council.

(c) To the extent permitted by law, including the Economy Act (31 U.S.C. 1535), and subject to the availability of appropriations, other agencies may detail staff to the Council, or otherwise provide administrative support, in order to advance the Council's functions.

(d) Agencies shall cooperate with the Council and provide such information regarding its current and planned activities related to policies that affect the American workforce as the Co-Chairs shall reasonably request, to the extent permitted by law.

Sec. 10. Termination of Council. The Council shall terminate 2 years after the date of this order, unless extended by the President.

Sec. 11. General Provisions. (a) Nothing in this order shall be construed to impair or otherwise affect:

(i) the authority granted by law to an executive department or agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

THE WHITE HOUSE,

July 19, 2018.

[FR Doc. 2018-15955

Filed 7-23-18; 11:15 am]

Billing code 3295-F8-P